DEPARTMENT OF HEALTH AND HUMAN SERVICES

Centers for Medicare & Medicaid Services

[Document Identifier: CMS-10292, CMS-718-721 and CMS-685]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: New Collection; Title of Information Collection: State Medicaid HIT Plan and Templates for Implementation of Section 4201 of ARRA; Form Number: CMS-10292 (OMB#: 0938-NEW); Use: This information is being requested in order that States can submit documentation to CMS for review and approval in order that States can implement the Medicaid program and draw down Federal financial participation. The American Reinvestment and Recovery Act of 2009 (ARRA) provides States with the flexibility to request funds to develop a health information technology vision and road to get to the ultimate goal of meaningful use of certified electronic health records technology. We will be sending State Medicaid Directors letters and templates for the State Medicaid Hit Plan (SMHP), the Planning Advance Planning Document (PAPD) and the Implementation Advance Planning Document (IAPD) to States in an effort to request these changes if they so choose to make the process as simple as possible. Frequency: Yearly, once and/or occasionally; Affected Public: State, Tribal and Local governments; Number of Respondents: 56; Total Annual Responses: 56; Total Annual Hours: 280. (For policy questions regarding this collection contact Donna Schmidt at 410-786-5532. For all other issues call 410-786-1326.)

2. Type of Information Collection Request: Reinstatement with change of a previously approved collection; Title of Information Collection: Business Proposal Forms for Quality Improvement Organizations (QIOs); Use: The submission of proposal information by current quality improvement associations (QIOs) and other bidders, on the appropriate forms, will satisfy CMS's need for meaningful, consistent, and verifiable data with which to evaluate contract proposals. The data collected on the forms associated with this information collection request is used by CMS to negotiate QIO contracts. The revised business proposal forms will be useful in a number of important ways. The Government will be able to compare the costs reported by the QIOs on the cost reports to the proposed costs noted on the business proposal forms. Subsequent contract and modification negotiations will be based on historic cost data. The business proposal forms will be one element of the historical cost data from which we can analyze future proposed costs. In addition, the business proposal format will standardize the cost proposing and pricing process among all QIOs. With well-defined cost centers and line items, proposals can be compared among QIOs for reasonableness and appropriateness. Form Number: CMS-718-721 (OMB#: 0938-0579); Frequency: Reporting—Triennially; Affected Public: Business or other for-profits and Not-for-profit institutions; Number of Respondents: 21; Total Annual Responses: 21; Total Annual Hours: 1,785. (For policy questions regarding this collection contact Clarissa Whatley at 410-786-7154. For all other issues call 410-786-1326.)

3. Type of Information Collection Request: Reinstatement without change of a previously approved collection; Title of Information Collection: End Stage Renal Disease (ESRD) Network Semi-Annual Cost Report Forms and Supporting Regulations in 42 CFR 405.2110 and 42 CFR 405.2112; Use: Section 1881(c) of the Social Security Act establishes End Stage Renal Disease (ESRD) Network contracts. The regulations found at 42 CFR 405.2110 and 405.2112 designated 18 ESRD Networks which are funded by renewable contracts. These contracts are on 3-year cycles. To better administer the program, CMS is requiring contractors to submit semi-annual cost reports. The purpose of the cost reports is to enable the ESRD Networks to report costs in a standardized manner. This will allow CMS to review, compare and project ESRD Network costs during the life of the contract. Form Number: CMS-685 (OMB#: 0938-0657); Frequency: Reporting—Semi-annually; Affected Public: Not-for-profit institutions; Number of Respondents: 18; Total Annual Responses: 36; Total Annual Hours: 108. (For policy questions regarding this collection contact Victoria Morgan at 410-786-7232. For all other issues call 410-786-1326.)

To obtain copies of the supporting statement and any related forms for the proposed paperwork collections referenced above, access CMS Web Site address at http://www.cms.hhs.gov/PaperworkReductionActof1995, or e-mail your request, including your address, phone number, OMB number, and CMS document identifier, to Paperwork@cms.hhs.gov, or call the Reports Clearance Office on (410) 786-1326.

To be assured consideration, comments and recommendations for the proposed information collections must be received by the OMB desk officer at the address below, no later than 5 p.m. on April 28, 2010: OMB, Office of Information and Regulatory Affairs, Attention: CMS Desk Officer, Fax Number: (202) 395-6974, E-mail: OIRA_submission@omb.eop.gov.

Dated: March 19, 2010.
Michelle Shortt,
Director, Regulations Development Group, Office of Strategic Operations and Regulatory Affairs.

[FR Doc. 2010-7033 Filed 3-26-10; 8:45 am]

BILLING CODE 4120-01-P